DEPARTMENT OF COMMERCE

National Oceanic and Atmospheric Administration

50 CFR Part 679

[Docket No. 071106673-8011-02]

RIN 0648-XJ59

Fisheries of the Exclusive Economic Zone Off Alaska; Reallocation of Atka Mackerel in the Bering Sea and Aleutian Islands Management Area; Correction

AGENCY: National Marine Fisheries Service (NMFS), National Oceanic and Atmospheric Administration (NOAA), Commerce.

ACTION: Temporary rule; correction.

SUMMARY: On July 30, 2008, NMFS published a revised Table 4 that reallocated Atka mackerel from the 2008 incidental catch allowance to the B season allowance for the Amendment 80 cooperative in the Eastern Aleutian District and the Bering Sea subarea of the Bering Sea and Aleutian Islands management area (BSAI). Table 4 of that document contains the final 2008 and 2009 BSAI Atka mackerel allocations. That table contained inadvertent calculation errors that are corrected in this rule.

DATES: Effective August 14, 2008, through 2400 hrs, A.l.t., December 31, 2008.

FOR FURTHER INFORMATION CONTACT: Mary Furuness, 907-586-7228.

SUPPLEMENTARY INFORMATION: Federal regulations at 50 CFR part 679 implement the Fishery Management Plan (FMP) and govern the groundfish fisheries in the BSAI. The North Pacific Fishery Management Council (Council) prepared the FMP, and NMFS approved it under the Magnuson-Stevens Fishery Conservation and Management Act (Magnuson-Stevens Act). General regulations governing U.S. fisheries also appear at 50 CFR part 600.

On July 30, 2008 (73 FR 44173) NMFS published a revised Table 4 that reallocated Atka mackerel from the 2008 incidental catch allowance to the B season allowance for the Amendment 80 cooperative in the Eastern Aleutian District and the Bering Sea subarea of the BSAI. However, NMFS inadvertently miscalculated the 2008 Amendment 80 Cooperatives total amount as 8,804 metric tons (mt) instead of 8,683 mt and A season amount as 3,812 mt instead of 3,691 mt. NMFS also inadvertently miscalculated the 2009 Amendment 80 sectors amounts in the Eastern Aleutian District and Bering Sea area and the Central Aleutian District. This document corrects the errors and republishes Table 4 in its entirety.

Correction

Accordingly, the revised Table 4 from the temporary rule (FR Doc. E8-17466) published on July 30, 2008, at 73 FR 44173, is corrected as follows:

On page 44174, Table 4, is corrected and republished in its entirety to read as follows:

TABLE 4—2008 AND 2009 SEASONAL AND SPATIAL ALLOWANCES, GEAR SHARES, CDQ RESERVE, INCIDENTAL CATCH ALLOWANCE, AND AMENDMENT 80 ALLOCATIONS OF THE BSAI ATKA MACKEREL TAC
[Amounts are in metric tons]
Sector¹ | Season²,³ | 2008 allocation by area: Eastern Aleutian District/Bering Sea | 2008 allocation by area: Central Aleutian District | 2008 allocation by area: Western Aleutian District | 2009 allocation by area: Eastern Aleutian District/Bering Sea | 2009 allocation by area: Central Aleutian District | 2009 allocation by area: Western Aleutian District
TAC | n/a | 19,500 | 24,300 | 16,900 | 15,300 | 19,000 | 13,200
CDQ reserve | Total | 2,087 | 2,600 | 1,808 | 1,637 | 2,033 | 1,412
| HLA⁴ | n/a | 1,560 | 1,085 | n/a | 1,220 | 847
ICA | Total | 100 | 10 | 10 | 1,400 | 10 | 10
Jig⁵ | Total | 80 | 0 | 0 | 61 | 0 | 0
BSAI trawl limited access | Total | 319 | 434 | 0 | 488 | 678 | 0
| A | 159 | 217 | 0 | 244 | 339 | 0
| HLA⁴ | n/a | 130 | 0 | n/a | 203 | 0
| B | 159 | 217 | 0 | 244 | 339 | 0
| HLA⁴ | n/a | 130 | 0 | n/a | 203 | 0
Amendment 80 sectors | Total | 15,615 | 21,256 | 15,082 | 11,714 | 16,279 | 11,778
| A | 7,807 | 10,628 | 7,541 | 5,857 | 8,139 | 5,889
| HLA⁴ | n/a | 6,377 | 4,525 | n/a | 4,884 | 3,533
| B | 7,807 | 10,628 | 7,541 | 5,857 | 8,139 | 5,889
| HLA⁴ | n/a | 6,377 | 4,525 | n/a | 4,884 | 3,533
Amendment 80 limited access | Total | 8,232 | 12,809 | 9,298 | n/a | n/a | n/a
| A | 4,116 | 6,405 | 4,649 | n/a | n/a | n/a
| HLA⁴ | n/a | 3,843 | 2,789 | n/a | n/a | n/a
| B | 4,116 | 6,405 | 4,649 | n/a | n/a | n/a
| HLA⁴ | n/a | 3,843 | 2,789 | n/a | n/a | n/a
Amendment 80 cooperatives | Total | 8,683 | 8,447 | 5,784 | n/a | n/a | n/a
| A | 3,691 | 4,224 | 2,892 | n/a | n/a | n/a
| HLA⁴ | n/a | 2,534 | 1,735 | n/a | n/a | n/a
| B | 4,992 | 4,224 | 2,892 | n/a | n/a | n/a
| HLA⁴ | n/a | 2,534 | 1,735 | n/a | n/a | n/a
¹Section 679.20(a)(8)(ii) allocates the Atka mackerel TACs, after subtraction of the CDQ reserves, jig gear allocation, and ICAs, to the Amendment 80 and BSAI trawl limited access sectors. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
²Regulations at §§ 679.20(a)(8)(ii)(A) and 679.22(a) establish temporal and spatial limitations for the Atka mackerel fishery. The A season is January 1 (January 20 for trawl gear) to April 15 and the B season is September 1 to November 1.
³The seasonal allowances of Atka mackerel are 50 percent in the A season and 50 percent in the B season.
⁴Harvest Limit Area (HLA) limit refers to the amount of each seasonal allowance that is available for fishing inside the HLA (see § 679.2). In 2008 and 2009, 60 percent of each seasonal allowance is available for fishing inside the HLA in the Western and Central Aleutian Districts.
⁵Section 679.20(a)(8)(i) requires that up to 2 percent of the Eastern Aleutian District and the Bering Sea subarea TAC be allocated to jig gear after subtraction of the CDQ reserve and ICA. The amount of this allocation is 0.5 percent. The jig gear allocation is not apportioned by season.

Dated: August 8, 2008.
Alan D. Risenhoover
Director, Office of Sustainable Fisheries, National Marine Fisheries Service.

[FR Doc. E8-18857 Filed 8-13-08; 8:45 am]

BILLING CODE 3510-22-S